NUCLEAR REGULATORY COMMISSION

[Docket Nos. 50-498 and 50-499; NRC-2010-0162]

STP Nuclear Operating Company South Texas Project, Units 1 and 2 Environmental Assessment and Finding of No Significant Impact

The U.S. Nuclear Regulatory Commission (NRC) is considering issuance of an exemption, pursuant to Title 10 of the Code of Federal Regulations (10 CFR), Section 26.9, for Facility Operating Licenses numbered NPF-76 and NPF-80, issued to STP Nuclear Operating Company (the licensee), for operation of the South Texas Project (STP), Units 1 and 2, respectively, located in Matagorda County, Texas. In accordance with 10 CFR 51.21, the NRC prepared an environmental assessment documenting its finding. The NRC concluded that the proposed action will have no significant environmental impact.

Environmental Assessment

Identification of the Proposed Action:

The proposed action would consider approval of an exemption for STP, Units 1 and 2, from some of the requirements of 10 CFR Part 26, “Fitness for Duty Rule.” Specifically, the licensee requests approval of an exemption from the requirements of 10 CFR 26.205(c), “Work hours scheduling,” and (d), “Work hour controls.”

The licensee states that during declaration of severe weather conditions such as tropical storm or hurricane force winds, adherence to all work hour controls requirements could impede the licensee's ability to use whatever staff resources may be necessary to respond to a plant emergency and ensure that the plant reaches and maintains a safe and secure status.

The exemption would only apply when severe weather conditions involving tropical storm or hurricane force winds are predicted on site requiring the sequestering of STP storm crew.

The proposed exemption will allow the licensee not to meet the requirements of 10 CFR 26.205(c) and (d), from the time that the storm or hurricane sequestering conditions are met until severe weather exit conditions are satisfied. The exemption will only apply to individuals on the storm crew who perform duties identified in 10 CFR 26.4(a)(1) through (5). When storm crew sequestering exit conditions are met, full compliance with 10 CFR 26.205(c) and (d) will be required.

The proposed action does not involve any physical changes to the reactor, fuel, plant structures, support structures, water, or land at the STP, Units 1 and 2, site.

The proposed action is in accordance with the licensee's application dated September 21, 2009, as supplemented by letters dated October 14, 2009, and February 11, 2010.

The Need for the Proposed Action:

Proposed action is needed because the licensee is unable to meet the requirements of 10 CFR 26.205 (c) and (d) during declarations of severe weather conditions that could result due to prevailing tropical storm or hurricane force winds impacting the facility.

Compliance with work hour control requirements would impede the licensee's ability to use whatever staff resources may be necessary to respond to a plant emergency and ensure that the plant reaches and maintains a safe and secure status.

Environmental Impacts of the Proposed Action:

The NRC staff has completed its environmental assessment of the proposed exemption. The NRC staff has concluded that the proposed exemption from the implementation of the requirements of 10 CFR 26.205(c) and (d) during declaration of severe weather conditions, would not significantly affect plant safety and would not have a significant adverse effect on the probability of occurrence of an accident.

The proposed action would not result in any increased radiological hazards beyond those previously evaluated by the NRC staff in NUREG-0781, “Safety Evaluation Report Related to Operation of South Texas Project, Units 1 and 2.” There will be no change to radioactive effluents that affect radiation exposures to plant workers and members of the public. Therefore, no changes in or different types of radiological impacts are expected as a result of the proposed exemption.

The proposed action does not result in changes to land use or water use, or result in changes to the quality or quantity of non-radiological effluents. No changes to the National Pollution Discharge Elimination System permit are needed. No effects on the aquatic or terrestrial habitat in the vicinity of the plant, or to threatened, endangered, or protected species under the Endangered Species Act, or impacts to essential fish habitat covered by the Magnuson-Steven's Act are expected. There are no impacts to the air or ambient air quality. There are no impacts to historical and cultural resources. There would be no impact to socioeconomic resources. Therefore, no changes to or different types of non-radiological environmental impacts are expected as a result of the proposed exemption.

Accordingly, the NRC staff concludes that there are no significant environmental impacts associated with the proposed action.

The licensee currently maintains a Hurricane Plan which provides directions for activation of the storm crew. The storm crew is activated upon the directions of Emergency Operations Facility Director. The Plan provides specific entry conditions for the start of the emergency and specific conditions that will terminate the emergency. The licensee states that the impact of the exemption on personnel manning during the implementation of the site Hurricane Plan will be similar to an Emergency Plan impact. Although the proposed exemption would allow the licensee not to meet work hour controls during storm crew activation, sufficient numbers of management and supervision will be available during storm crew manning and activation to ensure that public health and safety is adequately protected.

The NRC staff's safety evaluation will be provided as part of the letter to the licensee approving the exemption to the regulation, if granted.

Environmental Impacts of the Alternatives to the Proposed Action:

As an alternative to the proposed action, the NRC staff considered denial of the proposed actions (i.e., the “no-action” alternative). Denial of the exemption request would result in no change in current environmental impacts. If the proposed action were denied, the licensee would have to comply with the fatigue rules in 10 CFR 26.205(c) and (d). This would cause unnecessary burden on the licensee, without a significant benefit in environmental impacts. The environmental impacts of the proposed exemption and the “no-action” alternative are similar.

Alternative Use of Resources:

The action does not involve the use of any different resources than those considered in the Final Environmental Statement for the STP, Units 1 and 2, NUREG-1172, dated August 1986.

Agencies and Persons Consulted:

In accordance with its stated policy, on April 13, 2010, the NRC staff consulted with the Texas State official, Ms. Alice Rogers of the Texas State Department of Health, regarding the environmental impact of the proposed action. The Texas State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated September 21, 2009, as supplemented by letters dated October 14, 2009, and February 11, 2010, available in the Agencywide Documents Access and Management System (ADAMS) Accession Nos. ML092720178, ML092930172, and ML100490048, respectively. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 19th day of April 2010.
For The Nuclear Regulatory Commission.
Mohan C. Thadani,
Senior Project Manager, Plant Licensing Branch IV, Division of Operating Reactor Licensing, Office of Nuclear Reactor Regulation.

[FR Doc. 2010-9585 Filed 4-23-10; 8:45 am]

BILLING CODE 7590-01-P